DEPARTMENT OF ENERGY

Federal Energy Regulatory Commission

Combined Notice of Filings #2

Take notice that the Commission received the following electric rate filings:

Docket Numbers: ER13-2065-000.

Applicants: Southern California Edison Company.

Description: Amended SGIA & Distribution Service Agmt with Lancaster Little Rock C LLC to be effective 8/1/2013.

Filed Date: 7/31/13.

Accession Number: 20130731-5002.

Comments Due: 5 p.m. ET 8/21/13.

Docket Numbers: ER13-2066-000.

Applicants: Southern California Edison Company.

Description: Amended SGIA & Distribution Service Agreement with Lancaster Little Rock D LLC to be effective 8/1/2013.

Filed Date: 7/31/13.

Accession Number: 20130731-5003.

Comments Due: 5 p.m. ET 8/21/13.

Docket Numbers: ER13-2067-000.

Applicants: Southwest Power Pool, Inc.

Description: 1166R19 Oklahoma Municipal Power Authority NITSA and NOA to be effective 7/1/2013.

Filed Date: 7/31/13.

Accession Number: 20130731-5046.

Comments Due: 5 p.m. ET 8/21/13.

Docket Numbers: ER13-2068-000.

Applicants: Southwest Power Pool, Inc.

Description: 2571 Kansas Municipal Energy Agency NITSA and NOA to be effective 7/1/2013.

Filed Date: 7/31/13.

Accession Number: 20130731-5059.

Comments Due: 5 p.m. ET 8/21/13.

Docket Numbers: ER13-2069-000

Applicants: OriGen Energy LLC.

Description: Market Based Rates to be effective 10/1/2013.

Filed Date: 7/31/13.

Accession Number: 20130731-5071.

Comments Due: 5 p.m. ET 8/21/13.

Docket Numbers: ER13-2070-000.

Applicants: Southwest Power Pool, Inc.

Description: 2158R3 Arkansas Electric Cooperative Corp NITSA and NOA to be effective 7/1/2013.

Filed Date: 7/31/13.

Accession Number: 20130731-5080.

Comments Due: 5 p.m. ET 8/21/13.

Docket Numbers: ER13-2071-000.

Applicants: AEP Texas North Company.

Description: TNC-Sharyland Utilities IA to be effective 7/18/2013.

Filed Date: 7/31/13.

Accession Number: 20130731-5103.

Comments Due: 5 p.m. ET 8/21/13.

Docket Numbers: ER13-2072-000.

Applicants: Startrans IO, LLC.

Description: Offer of Settlement Modifying Appendix I to be effective 1/11/2013.

Filed Date: 7/31/13.

Accession Number: 20130731-5129.

Comments Due: 5 p.m. ET 8/21/13.

Docket Numbers: ER13-2073-000.

Applicants: Source Power & Gas LLC.

Description: Market Based Rates to be effective 10/1/2013.

Filed Date: 7/31/13.

Accession Number: 20130731-5133.

Comments Due: 5 p.m. ET 8/21/13.

Docket Numbers: ER13-2074-000.

Applicants: E.ON Global Commodities North America LLC.

Description: Market Based Rates to be effective 9/30/2013.

Filed Date: 7/31/13.

Accession Number: 20130731-5136.

Comments Due: 5 p.m. ET 8/21/13.

Docket Numbers: ER13-2075-000.

Applicants: Alabama Power Company.

Description: SWE (PowerSouth Territorial) NITSA Filing to be effective 7/1/2013.

Filed Date: 7/31/13.

Accession Number: 20130731-5139.

Comments Due: 5 p.m. ET 8/21/13.

Docket Numbers: ER13-2076-000.

Applicants: Hillman Power Company LLC.

Description: Rate Schedule 1 for Reactive Supply to be effective 10/1/2013.

Filed Date: 7/31/13.

Accession Number: 20130731-5141.

Comments Due: 5 p.m. ET 8/21/13.

Docket Numbers: ER13-2077-000.

Applicants: PJM Interconnection, L.L.C.

Description: PJM Interconnection, L.L.C. submits tariff filing per 35.13(a)(2)(iii: Queue Position NQ82; Original Service Agreement No. 3588 to be effective 7/1/2013.

Filed Date: 7/31/13.

Accession Number: 20130731-5143.

Comments Due: 5 p.m. ET 8/21/13.

Take notice that the Commission received the following electric securities filings:

Docket Numbers: ES13-39-000.

Applicants: ITC Midwest LLC.

Description: Application of ITC Midwest LLC under Section 204 of the Federal Power Act and Part 34 of the Commission's Regulations.

Filed Date: 7/31/13.

Accession Number: 20130731-5114.

Comments Due: 5 p.m. ET 8/21/13.

Docket Numbers: ES13-40-000.

Applicants: ITC Great Plains, LLC.

Description: Application of ITC Great Plains, LLC under Section 204 of the Federal Power Act and Part 34 of the Commission's Regulations .

Filed Date: 7/31/13.

Accession Number: 20130731-5115.

Comments Due: 5 p.m. ET 8/21/13.

Docket Numbers: ES13-41-000.

Applicants: International Transmission Company.

Description: Application of International Transmission Company under Section 204 of the Federal Power Act and Part 34 of the Commission's Regulations.

Filed Date: 7/31/13.

Accession Number: 20130731-5122.

Comments Due: 5 p.m. ET 8/21/13.

Docket Numbers: ES13-42-000.

Applicants: NorthWestern Corporation.

Description: Application for Authorization under Section 204 of the Federal Power Act to Issue Securities and Request for Shortened Comment Period of NorthWestern Corporation.

Filed Date: 7/31/13.

Accession Number: 20130731-5132.

Comments Due: 5 p.m. ET 8/21/13.

Docket Numbers: ES13-43-000.

Applicants: Michigan Electric Transmission Company, LLC.

Description: Application of Michigan Electric Transmission Company, LLC under Section 204 of the Federal Power Act and Part 34 of the Commission's Regulations.

Filed Date: 7/31/13.

Accession Number: 20130731-5157.

Comments Due: 5 p.m. ET 8/21/13.

Docket Numbers: ES13-44-000; ES13-45-000; ES13-46-000; ES13-47-000; ES13-48-000; ES13-49-000; ES13-50-000.

Applicants: Entergy Arkansas, Inc., Entergy Gulf States Louisiana, L.L.C, Entergy Louisiana, LLC, Entergy Mississippi, Inc., Entergy New Orleans, Inc., Entergy Texas, Inc., System Energy Resources, Inc.

Description: Joint application for authorizations under FPA Section 204 of Entergy Services, Inc., et al.

Filed Date: 7/31/13.

Accession Number: 20130731-5160.

Comments Due: 5 p.m. ET 8/21/13.

Take notice that the Commission received the following land acquisition reports:

Docket Numbers: LA13-2-000.

Applicants: EC&R O&M, LLC, Munnsville Wind Farm, LLC, Pioneer Trail Wind Farm, LLC, Settlers Trail Wind Farm, LLC, Stony Creek Wind Farm, LLC and Wildcat Wind Farm I, LLC.

Description: Quarterly Land Acquisition Report of E.ON CRNA Sellers.

Filed Date: 7/31/13.

Accession Number: 20130731-5067.

Comments Due: 5 p.m. ET 8/21/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 31, 2013.
Nathaniel J. Davis, Sr.,
Deputy Secretary.

[FR Doc. 2013-19587 Filed 8-13-13; 8:45 am]

BILLING CODE 6717-01-P